DEPARTMENT OF ENERGY

Federal Energy Regulatory Commission

[Project No. 13514-000]

Lock + TM Hydro Friends Fund XIII, LLC; Notice of Preliminary Permit Application Accepted for Filing and Soliciting Comments, Motions To Intervene, and Competing Applications

August 7, 2009.

On June 12, 2009, Lock + TM Hydro Friends Fund XI, LLC, filed an application, pursuant to section 4(f) of the Federal Power Act, proposing to study the feasibility of the Kaplan Hydroelectric Project, to be located on the Illinois River, in Cass and Brown Counties, Illinois.

The proposed Kaplan Project would be located at the U.S. Army Corps of Engineers Illinois River La Grange Lock and Dam, in La Grange, Illinois.

The proposed project would consist of: (1) Two new underwater frame modules containing nine turbines each with a total installed capacity of 9.4 megawatts; (2) a new pre-fabricated, concrete-lined conduit that would transport water from above the dam to below the dam and would contain the two aforementioned turbine modules installed side by side; (3) a new switchyard, transformer, and control room which would be located below the dam; (4) a new transmission line, which would extend 2.5 miles to an existing tie-in with the grid; and (5) appurtenant facilities. The Kaplan Project would have an estimated average annual generation of 74,555 megawatts-hours, which would be sold to a local utility.

Applicant Contact: Mr. Wayne F. Krouse, Managing Partner, Lock + Hydro Friends Fund X, 5090 Richmond Avenue #390, Houston, TX 77056, 877-556-6566 x709.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13514) in the docket number field to access the document. For assistance, call toll-free 1-866-208-3372.

Nathaniel J. Davis, Sr.,
Deputy Secretary.

[FR Doc. E9-19616 Filed 8-14-09; 8:45 am]

BILLING CODE 6717-01-P